DEPARTMENT OF ENERGY

Federal Energy Regulatory Commission

Combined Notice of Filings #1

June 25, 2010.

Take notice that the Commission received the following exempt wholesale generator filings:

Docket Numbers: EG10-48-000.

Applicants: Eagle Creek Hydro Power, LLC.

Description: Self-Certification of EG of Eagle Creek Hydro Power, LLC under EG10-48.

Filed Date: 06/24/2010.

Accession Number: 20100624-5146.

Comment Date: 5 p.m. Eastern Time on Thursday, July 15, 2010.

Take notice that the Commission received the following electric rate filings:

Docket Numbers: ER08-1318-001.

Applicants: Pacific Gas and Electric Company.

Description: Compliance Electric Refund Report of Pacific Gas and Electric Company.

Filed Date: 06/24/2010.

Accession Number: 20100624-5112.

Comment Date: 5 p.m. Eastern Time on Thursday, July 15, 2010.

Docket Numbers: ER09-1064-002.

Applicants: California Independent System Operator Corporation.

Description: California Independent System Operator Corporation submits compliance filing.

Filed Date: 06/21/2010.

Accession Number: 20100622-0202.

Comment Date: 5 p.m. Eastern Time on Monday, July 12, 2010.

Docket Numbers: ER09-1581-004.

Applicants: Midwest Independent Transmission System Operator, Inc.

Description: Midwest Independent Transmission System Operator, Inc. submits the Amended and Restated Generator Interconnection Agreement.

Filed Date: 06/18/2010.

Accession Number: 20100618-0205.

Comment Date: 5 p.m. Eastern Time on Friday, July 9, 2010.

Docket Numbers: ER10-642-003; ER10-310-003; ER10-643-003.

Applicants: Algonquin Tinker Gen Co.; Algonquin Energy Services Inc.; Algonquin Northern Maine Gen Co.

Description: Algonquin Tinker Gen Co et al. resubmits Substitute Second et al. to FERC Electric Tariff, Fourth Revised Volume 1.

Filed Date: 06/23/2010.

Accession Number: 20100624-0204.

Comment Date: 5 p.m. Eastern Time on Wednesday, July 14, 2010.

Docket Numbers: ER10-1479-000.

Applicants: Carolina Power & Light Company.

Description: Carolina Power & Light Company submits revisions to the Network Integration Transmission Service Agreement with North Carolina Eastern Municipal Power Agency, to be effective 7/1/10.

Filed Date: 06/18/2010.

Accession Number: 20100618-0208.

Comment Date: 5 p.m. Eastern Time on Friday, July 9, 2010.

Docket Numbers: ER10-1517-000.

Applicants: American Electric Power Service Corporation.

Description: American Electric Power Service Corp on behalf of Ohio Power Co et al. submits the Twenty-Third Revised Interconnection and Local Delivery Service Agreement.

Filed Date: 06/22/2010.

Accession Number: 20100622-0205.

Comment Date: 5 p.m. Eastern Time on Tuesday, July 13, 2010.

Docket Numbers: ER10-1538-000.

Applicants: Entergy Nuclear Indian Point 2, LLC.

Description: Entergy Nuclear Indian Point 2, LLC submits tariff filing per 35.12: Baseline Filing of ENIP2 to be effective 6/24/2010.

Filed Date: 06/24/2010.

Accession Number: 20100624-5073.

Comment Date: 5 p.m. Eastern Time on Thursday, July 15, 2010.

Docket Numbers: ER10-1545-000.

Applicants: PPL Electric Utilities Corporation.

Description: PECO Energy Company submits Notice of Cancellation of an Interconnection Facilities Agreement.

Filed Date: 06/24/2010.

Accession Number: 20100624-0208.

Comment Date: 5 p.m. Eastern Time on Thursday, July 15, 2010.

Docket Numbers: ER10-1548-000.

Applicants: PPL Electric Utilities Corporation.

Description: PECO Energy Company submits Transmission Facilities Interconnection Agreement.

Filed Date: 06/24/2010.

Accession Number: 20100624-0209.

Comment Date: 5 p.m. Eastern Time on Thursday, July 15, 2010.

Docket Numbers: ER10-1552-000.

Applicants: Midwest Independent Transmission System Operator, Inc.

Description: Midwest Independent Transmission System Operator, Inc. submits revisions to the Midwest ISO's Generator Interconnection Procedures, which is Attachment X of the Midwest ISO's Open Access Transmission etc.

Filed Date: 06/23/2010.

Accession Number: 20100624-0210.

Comment Date: 5 p.m. Eastern Time on Wednesday, July 14, 2010.

Docket Numbers: ER10-1553-000.

Applicants: Entergy Nuclear Generation Company.

Description: Entergy Nuclear Generation Company submits tariff filing per 35.12: Baseline Filing of ENGC to be effective 6/24/2010.

Filed Date: 06/24/2010.

Accession Number: 20100624-5133.

Comment Date: 5 p.m. Eastern Time on Thursday, July 15, 2010.

Docket Numbers: ER10-1554-000.

Applicants: Mid-Continent Area Power Pool.

Description: Mid-Continent Area Power Pool submits Notice of Cancellation of MAPP's Inadvertent Settlement Tariff, FERC Electric Tariff, Original Volume 3, effective July 1, 2010 under ER10-1554.

Filed Date: 06/24/2010.

Accession Number: 20100625-0202.

Comment Date: 5 p.m. Eastern Time on Thursday, July 15, 2010.

Docket Numbers: ER10-1555-000.

Applicants: PJM Interconnection, L.L.C.

Description: PJM Interconnection, LLC submits four executed Wholesale Market Participation Agreements with Green Valley Hydro, LLC under ER10-1555.

Filed Date: 06/24/2010.

Accession Number: 20100625-0203.

Comment Date: 5 p.m. Eastern Time on Thursday, July 15, 2010.

Take notice that the Commission received the following electric securities filings:

Docket Numbers: ES10-50-000.

Applicants: Kingsport Power Company.

Description: Application of Kingsport Power Company under Section 204 of the Federal Power Act for Authorization to Issue Securities.

Filed Date: 06/24/2010.

Accession Number: 20100624-5110.

Comment Date: 5 p.m. Eastern Time on Thursday, July 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16305 Filed 7-2-10; 8:45 am]

BILLING CODE 6717-01-P